DEPARTMENT OF THE INTERIOR

Bureau of Reclamation

[RR83570000, 189R5065C6, RX.59389832.1009676; OMB Control Number 1006-0028]

Agency Information Collection Activities; Recreation Visitor Use Survey

AGENCY: Bureau of Reclamation, Interior.

ACTION: Notice of information collection; request for comments.

SUMMARY: In accordance with the Paperwork Reduction Act of 1995, we, the Bureau of Reclamation (Reclamation), are proposing to renew an information collection with revisions.

DATES: Interested persons are invited to submit comments on or before March 13, 2018.

ADDRESSES: Send written comments on this information collection request (ICR) by mail to Jerome Jackson, Bureau of Reclamation, Office of Policy and Administration, 84-57000, P.O. Box 25007, Denver, CO 80225-0007; or by email to jljackson@usbr.gov. Please reference OMB Control Number 1006-0028 in the subject line of your comments.

FOR FURTHER INFORMATION CONTACT: To request additional information about this ICR, contact Jerome Jackson by email at jljackson@usbr.gov, or by telephone at (303) 445-2712.

SUPPLEMENTARY INFORMATION: In accordance with the Paperwork Reduction Act of 1995, we provide the general public and other Federal agencies with an opportunity to comment on new, proposed, or continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of Reclamation; (2) will this information be processed and used in a timely manner; (3) is the estimate of burden accurate; (4) how might Reclamation enhance the quality, utility, and clarity of the information to be collected; and (5) how might Reclamation minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Reclamation is responsible for recreation development at all of its reservoirs. Presently, there are over 200 designated recreation areas on our lands within the 17 Western States hosting approximately 30 million visitors annually. As a result, we must be able to respond to emerging trends, changes in the demographic profile of users, changing values, needs, wants, and desires, and conflicts between user groups. Statistically valid and up-to-date data derived from the user is essential to developing and providing recreation programs relevant to today's visitor. Reclamation is requesting re-approval for the collection of data from recreational users on Reclamation lands and waterbodies. To meet our needs for the collection of visitor use data, we will be requesting OMB to authorize a two-part request: survey questions for our regional offices to choose from, and a survey form template. This will allow for a custom designed survey instrument to fit a specific activity or recreation site. The custom designed survey would be created by extracting questions from the approved list of survey questions that are applicable to the recreation area and issue being evaluated. Only questions included in the pre-approved list of survey questions will be used.

Title of Collection: Recreation Visitor Use Survey.

OMB Control Number: 1006-0028.

Form Number: None.

Type of Review: Revision of a currently approved collection.

Respondents/Affected Public: Respondents to the surveys will be members of the public engaged in recreational activities on Reclamation lands and waterbodies. Visitors will primarily consist of local residents, people from large metropolitan areas in the vicinity of the lake/reservoir, and people from out of state.

Total Estimated Number of Annual Respondents: 556.

Total Estimated Number of Annual Responses: 556.

Estimated Completion Time per Response: 20 minutes per survey. (An average of 20 questions will be used on each survey; each question will take 1 minute to complete on average.)

Total Estimated Number of Annual Burden Hours: 185.

Respondent's Obligation: Voluntary.

Frequency of Collection: On occasion. Varies by survey.

Total Estimated Annual Non-hour Burden cost: 0.00

In addition, there are an estimated 140 number of contacts who will not respond. These non-respondents account for 1 total burden hour per year.

An agency may not conduct or sponsor and a person is not required to respond to a collection of information unless it displays a currently valid OMB control number. The authority for this action is the Paperwork Reduction Act of 1995 (44 U.S.C. 3501 et seq).

Dated: December 11, 2017.
Ruth Welch,
Director, Policy and Administration.

[FR Doc. 2018-00449 Filed 1-11-18; 8:45 am]

BILLING CODE 4332-90-P